DEPARTMENT OF COMMERCE

International Trade Administration

[A-533-838]

Carbazole Violet Pigment 23 From India: Extension of Time Limit for Final Results of Antidumping Duty Administrative Review

AGENCY: Import Administration, International Trade Administration, Department of Commerce.

FOR FURTHER INFORMATION CONTACT: Jerrold Freeman or Richard Rimlinger, AD/CVD Operations, Office 5, Import Administration, International Trade Administration, U.S. Department of Commerce, 14th Street and Constitution Avenue, NW, Washington, DC, 20230; telephone: (202) 482-0180 or (202) 482-4477, respectively.

SUPPLEMENTARY INFORMATION:

Background

On December 22, 2009, the Department of Commerce (the Department) published in the Federal Register the preliminary results of the administrative review of the antidumping duty order on CVP 23 from India. See Carbazole Violet Pigment 23 from India: Preliminary Results of Antidumping Duty Administrative Review, 74 FR 68038 (December 22, 2009) (Preliminary Results). The period of review is December 1, 2007, through November 30, 2008. As explained in the memorandum from the Deputy Assistant Secretary for Import Administration, we have exercised our discretion to toll deadlines for the duration of the closure of the Federal Government from February 5 through February 12, 2010. Thus, all deadlines in this review have been extended by seven days. The revised deadline for the final results of this administrative review is currently April 28, 2010. See Memorandum to the Record from Ronald Lorentzen, DAS for Import Administration, regarding “Tolling of Administrative Deadlines As a Result of the Government Closure During the Recent Snowstorm,” dated February 12, 2010.

Extension of Time Limit for Final Results

Section 751(a)(3)(A) of the Tariff Act of 1930, as amended (the Act), requires the Department to make a final determination within 120 days after the date on which the preliminary determination is published. If it is not practicable to complete the review within this time period, section 751(a)(3)(A) of the Act allows the Department to extend the time limit for the final determination to a maximum of 180 days after the date on which the preliminary results are published. See also 19 CFR 351.213(h)(2).

We determine that it is not practicable to complete the final results of this administrative review by the current deadline of April 28, 2010, because we are continuing to examine the issue related to the export-subsidy adjustment addressed by the petitioner and respondent in briefs submitted in response to the Preliminary Results. Therefore, in accordance with section 751(a)(3)(A) of the Act and 19 CFR 351.213(h)(2), we are extending the time period for issuing the final results of this review by 60 days until June 27, 2010.

This notice is published in accordance with sections 751(a)(3)(A) and 777(i)(1) of the Act and 19 CFR 351.213(h)(2).

Dated: April 26, 2010.
Edward C. Yang,
Acting Deputy Assistant Secretary for Antidumping and Countervailing Duty Operations.

[FR Doc. 2010-10261 Filed 4-30-10; 8:45 am]

BILLING CODE 3510-DS-S